DEPARTMENT OF COMMERCE

International Trade Administration

[A-201-842]

Large Residential Washers From Mexico: Final Results of Antidumping Duty Administrative Review; 2018-2019

AGENCY: Enforcement and Compliance, International Trade Administration, Department of Commerce.

SUMMARY: The Department of Commerce (Commerce) finds that sales of large residential washers (LRW) from Mexico were made at less than normal value (NV) during the period of review, February 1, 2018 through January 31, 2019.

DATES: Applicable December 16, 2020.

FOR FURTHER INFORMATION CONTACT: William Miller, AD/CVD Operations, Office II, Enforcement and Compliance, International Trade Administration, U.S. Department of Commerce, 1401 Constitution Avenue NW, Washington, DC 20230; telephone: (202) 482-3906.

SUPPLEMENTARY INFORMATION:

Background

This review covers one producer/exporter of the subject merchandise, Electrolux Home Products Corp. N.V. and Electrolux Home Products de Mexico, S.A. de C.V. (collectively, Electrolux). On February 27, 2020, Commerce published the Preliminary Results.¹ On April 6, 2020, we received case briefs on behalf of Electrolux and Haier U.S. Appliance Solutions dba GE Appliances (GE).² On April 13, 2020, we received rebuttal briefs on behalf of Electrolux, Whirlpool Corporation (Whirlpool), and GE.³

¹ See Large Residential Washers from Mexico: Preliminary Results of the Antidumping Duty Administrative Review; 2018-2019, 85 FR 11338 (February 27, 2020) (Preliminary Results), and accompanying Preliminary Decision Memorandum (PDM).

² See Electrolux's Case Brief, “Sixth Administrative Review of Large Residential Washers from Mexico: Case Brief of Electrolux,” dated April 6, 2020; see also GE's Case Brief, “Administrative Review of Large Residential Washers from Mexico Antidumping Order: Case Brief,” dated April 6, 2020.

³ See Electrolux's Rebuttal Brief, “Sixth Administrative Review of Large Residential Washers from Mexico: Rebuttal Brief of Electrolux,” dated April 13, 2020; Whirlpool's Rebuttal Brief, “Large Residential Washers from Mexico: Rebuttal Brief of Whirlpool Corporation,” dated April 13, 2020; and GE's Rebuttal Brief, “Administrative Review of Large Residential Washers from Mexico Antidumping Order: GEA Rebuttal Brief,” dated April 13, 2020.

Scope of the Order

The products covered by the order are all large residential washers and certain subassemblies thereof from Mexico. The products are currently classifiable under subheadings 8450.20.0040 and 8450.20.0080 of the Harmonized Tariff System of the United States (HTSUS). Products subject to this order may also enter under HTSUS subheadings 8450.11.0040, 8450.11.0080, 8450.90.2000, and 8450.90.6000. Although the HTSUS subheadings are provided for convenience and customs purposes, the written description of the merchandise subject to this scope is dispositive.⁴

⁴ For a full description of the scope of the order, see Preliminary Results PDM.

Analysis of Comments Received

All issues raised in the case and rebuttal briefs are listed in the Appendix to this notice and addressed in the IDM.⁵ Interested parties can find a complete discussion of these issues and the corresponding recommendations in this public memorandum, which is on file electronically via Enforcement and Compliance's Antidumping and Countervailing Duty Centralized Electronic Service System (ACCESS). ACCESS is available to registered users at https://access.trade.gov. In addition, a complete version of the IDM can be accessed directly at https://enforcement.trade.gov/frn/index.html. The signed IDM and the electronic version of the IDM are identical in content.

⁵ See Memorandum, “Issues and Decision Memorandum for the Final Results of the 2018-2019 Administrative Review of the Antidumping Duty Order on Large Residential Washers from Mexico,” (IDM), dated concurrently with, and hereby adopted by, this notice.

Changes Since the Preliminary Results

Based on a review of the record and comments received from interested parties regarding our Preliminary Results, we made no changes to the preliminary weighted-average margin for Electrolux.

Final Results of the Review

As a result of this review, Commerce determines that a weighted-average dumping margin of 3.53 percent exists for Electrolux for the period February 1, 2018 through January 31, 2019.

Assessment Rates

Pursuant to section 751(a)(2)(C) of the Act, and 19 CFR 351.212(b)(1), Commerce has determined, and U.S. Customs and Border Protection (CBP) shall assess, antidumping duties on all appropriate entries of subject merchandise in accordance with the final results of this review.

Pursuant to 19 CFR 351.212(b)(1), Electrolux reported the entered value of its U.S. sales such that we calculated importer-specific ad valorem duty assessment rates based on the ratio of the total amount of dumping calculated for the examined sales to the total entered value of the sales for which entered value was reported. Where the respondent's weighted-average dumping margin is zero or de minimis within the meaning of 19 CFR 351.106(c)(1), or an importer-specific assessment rate is zero or de minimis, we will instruct CBP to liquidate the appropriate entries without regard to antidumping duties.

We intend to issue liquidation instructions to CBP 41 days after publication of the final results of this review.

Cash Deposit Requirements

The following cash deposit requirements will be effective for all shipments of the subject merchandise entered, or withdrawn from warehouse, for consumption on or after the publication date of the final results of this administrative review, as provided by section 751(a)(2)(C) of the Act: (1) The cash deposit rate for Electrolux will be equal to the weighted-average dumping margin that is established in the final results of this review, except if the rate is less than 0.50 percent and, therefore, de minimis within the meaning of 19 CFR 351.106(c)(1), in which case the cash deposit rate will be zero; (2) for previously investigated companies not participating in this review, the cash deposit will continue to be the company-specific rate published for the most recently completed segment of this proceeding in which the company participated; (3) if the exporter is not a firm covered in this review, a prior review, or the original less-than-fair-value (LTFV) investigation, but the manufacturer is, the cash deposit rate will be the cash deposit rate established for the most recently completed segment for the producer of the subject merchandise; and (4) the cash deposit rate for all other producers or exporters will continue to be 36.52 percent, the all-others rate established in the LTFV investigation.⁶ These deposit requirements, when imposed, shall remain in effect until further notice.

⁶ See Large Residential Washers from Mexico and the Republic of Korea: Antidumping Duty Orders, 78 FR 11148 (February 15, 2013).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is issued and published in accordance with sections 751(a)(1) and 777(i)(1) of the Act.

Dated: December 10, 2020.
Jeffrey I. Kessler,
Assistant Secretary for Enforcement and Compliance.

Appendix

List of Topics Discussed in the IDM

I. Summary

II. Background

III. Margin Calculations

IV. Discussion of Issues

Comment 1: Differential Pricing—the Ratio Test

Comment 2: Differential Pricing—Calculating the Denominator of the Cohen's d Test

Comment 3: CEP Offset for Electrolux's Canadian Sales

Comment 4: Capping Freight Revenue in the Comparison Market

V. Recommendation

[FR Doc. 2020-27638 Filed 12-15-20; 8:45 am]

BILLING CODE 3510-DS-P